DEPARTMENT OF ENERGY

Federal Energy Regulatory Commission

[Docket No. RP99-176-046]

Natural Gas Pipeline Company of America; Notice of Negotiated Rate Filing

December 6, 2001.

Take notice that on November 30, 2001, Natural Gas Pipeline Company of America (Natural) tendered for filing with the Federal Energy Regulatory Commission (Commission), certain tariff sheets to become part of its FERC Gas Tariff, Sixth Revised Volume No. 1 (Tariff). An effective date of December 1, 2001, is requested for these tariff sheets.

Original Sheet No. 26U.01

Original Sheet No. 26U.02

Natural also submits for filing and acceptance copies of the Firm Transportation Negotiated Rate Agreement dated August 28, 2001 (Agreement).

Natural states that the purpose of this filing is to implement two (2) negotiated rate transactions entered into by Natural and MidAmerican Energy Company (MidAmerican) under Natural's Rate Schedules FTS and DSS pursuant to Section 49 of the General Terms and Conditions of Natural's Tariff, and to update the listing of non-conforming agreements in Natural's Tariff by eliminating the old, expiring MidAmerican Firm Transportation Negotiated Rate Agreement dated August 3, 2000. Natural states that the two (2) negotiated rate agreements do not deviate in any material respect from the applicable form of service agreement in Natural's Tariff.

Natural requests waivers of the Commission's Regulations to the extent necessary to permit the proposed tariff sheets to become effective December 1, 2001.

Natural states that copies of the filing are being mailed to its customers, interested state commissions and all parties set out on the Commission's official service list in Docket No. RP99-176.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30709 Filed 12-11-01; 8:45 am]

BILLING CODE 6717-01-P